DEPARTMENT OF ENERGY

Federal Energy Regulatory Commission

[Docket No. AD10-12-014]

Increasing Market and Planning Efficiency Through Improved Software; Supplemental Notice of Technical Conference on Increasing Real-Time and Day-Ahead Market and Planning Efficiency Through Improved Software

As first announced in the Notice of Technical Conference issued in this proceeding on February 7, 2023, Commission staff will convene a technical conference on June 27, 28, and 29, 2023 to discuss opportunities for increasing real-time and day-ahead market and planning efficiency of the bulk power system through improved software. Attached to this Second Supplemental Notice is the agenda for the technical conference and speakers' summaries of their presentations.

While the intent of the technical conference is not to focus on any specific matters before the Commission, some conference discussions might include topics at issue in proceedings that are currently pending before the Commission, including topics related to capacity valuation methodologies for renewable, hybrid, or storage resources. These proceedings include, but are not limited to:

PJM Interconnection, L.L.C | Docket No. EL21-83-000.
California Independent System Operator Corp | Docket No. ER21-2455-004.
New York Independent System Operator, Inc | Docket No. ER21-2460-003.
ISO New England, Inc | Docket No. ER22-983-002.
PJM Interconnection, L.L.C | Docket No. ER22-962-003.
Southwest Power Pool, Inc | Docket No. ER22-1697-001.
Midcontinent Independent System Operator, Inc | Docket No. ER22-1640-000.
ISO New England, Inc | Docket No. EL22-42-000.
Southwest Power Pool, Inc | Docket No. ER22-379-000.
PJM Interconnection, L.L.C | Docket No. ER22-1200-000.
California Independent System Operator Corp | Docket No. ER23-1485-000.
California Independent System Operator Corp | Docket No. ER23-1533-000.
California Independent System Operator Corp | Docket No. ER23-1534-000.
Midcontinent Independent System Operator, Inc | Docket No. EL23-28.
Midcontinent Independent System Operator, Inc | Docket No. ER23-1195.
Midcontinent Independent System Operator, Inc | Docket No. EL23-46.

The conference will take place in a hybrid format, with presenters and attendees allowed to participate either in-person or virtually. Further details on both in-person and virtual participation will be available on the conference web page.¹ Foreign nationals attending in-person must register through the Commission's website on or before June 2, 2023. We also encourage all other in-person attendees to also register through the Commission's website on or before June 2, 2023, to help ensure Commission staff can provide sufficient physical and virtual facilities and to communicate with attendees in the case of unanticipated emergencies or other changes to the conference schedule or location. Access to the conference (virtual or in-person) may not be available to those who do not register.

¹ https://www.ferc.gov/news-events/events/increasing-real-time-and-day-ahead-market-and-planning-efficiency-through.

The Commission will accept comments following the conference, with a deadline of July 28, 2023.

There is an “eSubscription” link on the Commission's website that enables subscribers to receive email notification when a document is added to a subscribed docket(s). For assistance with any FERC Online service, please email FERCOnlineSupport@ferc.gov, or call (866) 208-3676 (toll free). For TTY, call (202) 502-8659.

FERC conferences are accessible under section 508 of the Rehabilitation Act of 1973. For accessibility accommodations please send an email to accessibility@ferc.gov or call toll free (866) 208-3372 (voice) or (202) 502-8659 (TTY), or send a fax to (202) 208-2106 with the required accommodations.

For further information about these conferences, please contact:

Sarah McKinley (Logistical Information), Office of External Affairs, (202) 502-8004, Sarah.McKinley@ferc.gov

Alexander Smith (Technical Information), Office of Energy Policy and Innovation, (202) 502-6601, Alexander.Smith@ferc.gov

Dated: April 28, 2023.
Debbie-Anne A. Reese,
Deputy Secretary.

[FR Doc. 2023-09496 Filed 5-3-23; 8:45 am]

BILLING CODE 6717-01-P